DEPARTMENT OF THE INTERIOR

Bureau of Land Management

[OR-912-6320-AA; GP1-0098]

Resource Advisory Committees; Notice of Intent to Establish and Call for Nominations

AGENCY: Bureau of Land Management, Interior.

ACTION: Notice of intent to establish and call for nominations for each of the Oregon Bureau of Land Management (BLM) District Resource Advisory Committees (Committees) provided for in Section 205 of the Secure Rural Schools and Community Self Determination Act of 2000 (Pub. L. 106-393).

SUMMARY: This notice is published in accordance with Section 9(a)(2) of the Federal Advisory Committee Act. Notice is hereby given that the Secretary of the Interior intends to establish five Resource Advisory Committees, pursuant to Section 205 of the Secure Rural Schools and Community Self Determination Act of 2000, Public Law 106-393 (the Act), for western Oregon BLM districts that contain Oregon and California (O&C) grants lands and Coos Bay Wagon Road grant lands. The public is also requested to submit nominations for membership on the Committees.

DATES: Nomination applications for Resource Advisory Committees can be obtained from your local BLM district office, or on the web at www.or.blm.gov/planning/advisory. All applications must be received by the appropriate BLM District office listed below no later than June 1, 2001. All nominations must include letters of reference from represented interests or organizations and a completed application that includes background information, as well as any other information that speaks to the nominee's qualifications.

Addresses:

BLM Resource Advisory Committee Contacts

Coos Bay District Resource Advisory Committee: Sue Richardson, District Manager,1300 Airport Lane, North Bend, Oregon 97459, (541) 756-0100

Eugene District Resource Advisory Committee: Wayne Elliot, Resource Management Advisor, 2890 Chad Drive, Eugene, Oregon 97408-7336, (541) 683-6600

Medford District Resource Advisory Committee: Ron Wenker, District Manager, 3040 Biddle Road, Medford, Oregon 97504, (541) 618-2200

Roseburg District Resource Advisory Committee: Cary Osterhaus, District Manager, 777 NW Garden Valley Blvd., Roseburg, Oregon 97470, (541) 440-4913

Salem District Resource Advisory Committee: Jose Linares, Associate District Manager, 1717 Fabry Road SE, Salem, Oregon 97306, (503) 375-5646

FOR FURTHER INFORMATION CONTACT: Maya Fuller, Oregon/Washington Bureau of Land Management, Oregon State Office, PO Box 2965, Portland, Oregon 97208, (503) 952-6437.

SUPPLEMENTARY INFORMATION: The Secure Rural Schools and Community Self Determination Act establishes a five-year payment schedule to local counties to compensate them in part for the decrease in funds formally derived from the harvest of timber on federal lands. Pursuant to the Act, BLM is establishing five Committees for western Oregon BLM districts that contain O&C grant lands and Coos Bay Wagon Road grant lands. Committees will consist of 15 local citizens representing a wide array of interests.

The Act creates a new mechanism for local community collaboration with federal land management activities in the selection of projects to be conducted on federal lands or that will benefit resources on federal lands using funds under Title II of the Act.

Committee membership must be balanced in terms of the categories of interest represented. Members will serve without monetary compensation, but will be reimbursed for travel and per diem when on Committee business, as authorized by 5 U.S.C. 5703. Prospective members are advised that membership on a Resource Advisory Committee calls for a substantial commitment of time and energy.

Any individual or organization may nominate one or more persons to serve on the Committees. Individuals may also nominate themselves or others. Nominees must reside within one of the counties that are (in whole or part) within the BLM District boundaries of the Committee(s) on which membership is sought. A person may apply for and serve on more than one Committee. Nominees will be evaluated based on their education, training, and experience relating to land use issues and knowledge of the geographical area of the Committee. Nominees must also demonstrate a commitment to collaborative resource decision-making.

You may make nominations for the following categories of interest:

Category One—5 members who:

1. represent organized labor;

2. represent developed outdoor recreation, off-highway vehicle users, or commercial recreation activities;

3. represent energy and mineral development interests;

4. represent the commercial timber industry; or

5. hold federal grazing permits, or other land permits, within the area for which the committee is organized.

Category Two—5 members representing:

1. nationally recognized environmental organizations;

2. regionally or locally recognized environmental organizations;

3. dispersed recreational activities;

4. archeological and historical interests; or

5. nationally or regionally recognized wild horse and burro interest groups.

Category Three—5 members who:

1. hold State elected office or their designee;

2. hold county or local elected office;

3. represent American Indian Tribes within or adjacent to the area for which the committee is organized;

4. are school officials or teachers; or

5. represent the affected public at large.

The Resource Advisory Committees will be based on western Oregon BLM District boundaries. Specifically, the BLM Committees are as follows:

Salem District Resource Advisory Committee advises officials on projects associated with federal lands within the Salem District boundary which includes Benton, Clackamas, Clatsop, Columbia, Lane, Lincoln, Linn, Marion, Multnomah, Polk, Tillamook, Washington, and Yamhill Counties.

Eugene District Resource Advisory Committee advises federal officials on projects associated with federal lands within the Eugene District boundary. The area covers Benton, Douglas, Lane, and Linn Counties.

Roseburg District Resource Advisory Committee advises federal officials on projects associated with federal lands within the Roseburg District boundary which includes Douglas, Lane, and Jackson Counties.

Medford District Resource Advisory Committee advises federal officials on projects associated with federal lands within the Medford District and Klamath Falls Resource Area in the Lakeview District. The area covers Coos, Curry, Douglas, Jackson, and Josephine Counties, and small portions of west Klamath County.

Coos Bay District Resource Advisory Committee advises federal officials on projects associated with federal lands within the Coos Bay District which includes Coos, Curry, Douglas, and Lane Counties.

Dated: April 18, 2001.
Nina Rose Hatfield,
Acting Director, Bureau of Land Management.

[FR Doc. 01-11061 Filed 5-1-01; 8:45 am]

BILLING CODE 4310-33-P